DEPARTMENT OF HOUSING AND URBAN DEVELOPMENT

[Docket No. FR-4723-FA-02]

Announcement of Funding Awards for Fiscal Year 2002 Community Outreach Partnership Centers

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2002 Community Outreach Partnerships Centers (COPC). The purpose of this document is to announce the names, addresses and the amount awarded to the winners to be used to establish and operate Community Outreach Partnership Centers that will: (1) Conduct competent and qualified research and investigation on theoretical or practical problems in large and small cities; and (2) facilitate partnerships and outreach activities between institutions of higher education, local communities and local governments to address urban problems.

FOR FURTHER INFORMATION CONTACT: Susan Brunson, Office of University Partnerships, Department of Housing and Urban Development, Room 8106, 451 Seventh Street, SW., Washington, DC 20410, telephone (202) 708-3061, ext. 3852. To provide service for persons who are hearing-or-speech-impaired, this number may be reached via TTY by Dialing the Federal Information Relay Service on 800-877-8339 or 202-708-1455. (Telephone numbers, other than “800” TTY numbers are not toll free).

SUPPLEMENTARY INFORMATION: The Community Outreach Partnership Centers Program was enacted in the Housing and Community Development Act of 1992 (Pub. L. 102-550, approved October 28, 1992) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Community Outreach Partnership Centers Program provides funds for: Research activities which have practical application for solving specific problems in designated communities and neighborhoods; outreach, technical assistance and information exchange activities which are designed to address specific problems associated with housing, economic development, neighborhood revitalization, infrastructure, health care, job training, education, crime prevention, planning, and community organizing. On March 26, 2002 (67 FR 13927), HUD published a Notice of Funding Availability (NOFA) announcing the availability of $7.5 million in Fiscal Year 2002 for the Community Outreach Partnership Centers Program. The Department reviewed, evaluated and scored the applications received based on the criteria in the NOFA. As a result, HUD has funded 15 applications for New Grants and 7 applications for New Directions Grants. New Grants, which cannot exceed $400,000, are for institutions of higher education just beginning a COPC project. New Directions Grants, which cannot exceed $150,000, are for institutions of higher education that are undertaking new activities or expanding into new neighborhoods. These grants, with their grant amounts are identified below.

The Catalog Federal Domestic Assistance number for this program is 14.511.

In accordance with section 102(a)(4)(C) of the Department of Housing and Urban Development Reform Act of 1989 (103 Stat. 1987, U.S.C. 3545), the Department is publishing details concerning the recipients of funding awards, as follows:

List of Awardees for Grant Assistance Under the FY 2002 Community Outreach Partnership Center (COPC) Communities Program; Funding Competition, by Institution, Address and Grant Amount

New England

1. North Essex Community College, Ms. Mayte Rivera, Community Institute of Business Educations, North Essex Community College, 45 Franklin Street, Lawrence, MA 01841. Grant: $399,684.

2. University of Massachusetts-Lowell, Dr. Linda Silka, University of Massachusetts-Lowell, 600 Suffolk Street, Lowell, MA 01854. Grant: $150,000.

New York/New Jersey

3. Research Foundation of State University of New York at Binghamton, Dr. Alison Alden, School of Education and Human Development, Research Foundation of State University of New York at Binghamton, P.O. Box 6000, Binghamton, NY 13902-6000. Grant: $399,997.

4. Rutgers The State University of New Jersey, Maureen Thompson-Siegel, Rutgers The State University of New Jersey, 3 Rutgers Plaza, New Brunswick, NJ 08901. Grant: $149,999.

Mid-Atlantic

5. Robert Morris University, John Michalenko, Office of Academic and Student Affairs, Robert Morris University, 881 Narrows Run Road, Moon Township, PA 15108. Grant: $397,841.

6. Virginia Commonwealth University, Dr. Catherine W. Howard, Virginia Commonwealth University P.O. Box 980568, Richmond, VA 23298-0568. Grant: $149,993.

7. Frostburg State University, Cherie Krug, Center for Volunteerism and National Service, Frostburg State University, 101 Braddock Road, Frostburg, MD 21532. Grant: $383,709.

Southeast/Caribbean

8. East Carolina University, Al Delia, Regional Development Institute, East Carolina University, 300 East First Street, Willis Building, Greenville, NC 27858. Grant: $399,950.

9. Morehead State University, Michael W. Hail, Institute for Regional Analysis and Public Policy, Morehead State University, 150 University Boluveard, Morehead, KY 40351. Grant: $399,999.

10. Vanderbilt University, Debbie Miller, Institute for Public Policy Studies, Vanderbilt University, 512 Kirkland Hall, Nashville, TN 37240. Grant: $399,920.

11. Mercer University, Dr. Peter C. Brown, Mercer Center for Community Development, Mercer University, 1400 Coleman Avenue, Macon GA 31207. Grant: $149,996.

Midwest

12. The Regents of the University of Michigan-Dearborn, Dr. Paul Wong, The Regents of the University of Michigan, 3003 South State Street #1038, Ann Arbor, MI 48109-1274. Grant: $399,814.

13. Northern Illinois University, Katherine Harned, Center for Governmental Studies, Northern Illinois University, Lowden Hall 301, DeKalb, IL 60115-2854. Grant: $388,280.

14. University of Wisconsin-Milwaukee, Stephen Percy, University of Wisconsin-Milwaukee, P.O. Box 340, Milwaukee, WI 53201-0304. Grant: $150,000.

Southwest

15. University of Texas Health Science Center at San Antonio, Dr. Bankole Johnson, Southwest Texas Addiction Research & Technology Center, University of Texas Health Science Center at San Antonio, 7703 Floyd Curl Drive, San Antonio, TX 8229-3900. Grant: $399,000.

16. University of North Texas, Dr. Stan Ingman, Center for Public Service, University of North Texas, P.O. Box 305250, Denton, TX 76203-5250. Grant: $150,000.

17. University of Arkansas-Little Rock, Joni Lee, University of Arkansas-Little Rock, 2801 South University, Little Rock, AR 72204. Grant: $149,386.

Rocky Mountain

18. Colorado State University, Carmen Morales, College of Applied Human Science, Colorado State University, Sponsored Programs, Fort Collins, CO 89523. Grant: $396,704.

Pacific/Hawaii

19. Claremont Graduate University, School of Educational Studies, 152 Harper Hall, 150 East Tenth Street, Claremont, CA 91711. Grant: $349,955.

20. San Diego Community College District, Lois C. Bruhm, Economic Development, San Diego Community College District, 3375 Camino del Rio South, San Diego, CA 92118. Grant: $400,000.

Northwest/Alaska

21. Washington State Community Colleges District 17, Phosetta Rhodes, Spokane Falls Community College, 3410 West Fort George Wright Drive, MS 3010, Spokane, WA 99224. Grant: $397,246.

22. University of Washington, Louis Fox, Educational Partnerships & Learning Technologies, University of Washington, P.O. Box 352820, Seattle, WA 98195-2820. Grant: $399,912.

Dated: November 13, 2002.
Harold L. Bunce,
Deputy Assistant Secretary for Economic Affairs.

[FR Doc. 02-29705 Filed 11-21-02; 8:45 am]

BILLING CODE 4210-62-P